DEPARTMENT OF COMMERCE

National Institute of Standards and Technology

Announcement of a Meeting To Explore Feasibility of Establishing a NIST/Industry Consortium on Fire Resistive Materials for Structural Steel

AGENCY: National Institute of Standards and Technology, Commerce.

ACTION: Notice of public meeting.

SUMMARY: The National Institute of Standards and Technology (NIST) invites interested parties to attend a pre-consortium meeting on July 14, 2005 to be held on the NIST campus. The goal of the one-day meeting is to evaluate industry interest in creating a NIST/industry consortium focused on the materials science of fire resistive materials for structural steel. The goals of such a consortium would include the development of measurement methods for the thermal and adhesion properties of fire resistive materials, tools for the characterization of their three-dimensional microstructure, and linkages between microstructure and the above-mentioned performance properties. The consortium would be supervised and administered by NIST. Consortium research and development would be conducted by NIST staff members along with at least one technical representative from each participating member company. It is estimated that membership fees for participation in the consortium would be on the order of Twenty-five Thousand ($25,000) per year. The initial term of the consortium is intended to be three years.

DATES: The meeting will take place on July 14, 2005 at 8 a.m. to 5 p.m. Interested parties should contact NIST to confirm their interest at the address, telephone number or FAX number shown below.

ADDRESSES: The meeting will take place at the National Institute of Standards and Technology (NIST), 100 Bureau Drive, Administration Building (101), Lecture Room B, Gaithersburg, MD 20899.

FOR FURTHER INFORMATION CONTACT: Dale P. Bentz, Emmett P. O'Brien, or Christopher C. White, Building Research (226), Room B362, National Institute of Standards and Technology (NIST), Gaithersburg, MD 20899-8615. Telephone: 301-975-5865; FAX: 301-990-6891; e-mail: dale.bentz@nist.gov, emmett.obrien@nist.gov, christopher.white@nist.gov.

SUPPLEMENTARY INFORMATION: Any program undertaken will be within the scope and confines of The Federal Technology Transfer Act of 1986 (Pub. L. 99-502, 15 U.S.C. 3710a), which provides federal laboratories including NIST, with the authority to enter into cooperative research agreements with qualified parties. Under this law, NIST may contribute personnel, equipment, and facilities but no funds to the cooperative research program. This is not a grant program.

Dated: March 10, 2005.
Hratch G. Semerjian,
Acting Director.

[FR Doc. 05-5397 Filed 3-17-05; 8:45 am]

BILLING CODE 3510-13-P